DEPARTMENT OF EDUCATION

Notice of Meeting; National Advisory Committee on Institutional Quality and Integrity

AGENCY: National Advisory Committee on Institutional Quality and Integrity (NACIQI), Office of Postsecondary Education, U.S. Department of Education.

ACTION: Announcement of meeting.

SUMMARY: This notice sets forth the agenda, time, and instructions to access or participate in the July 27-29, 2021 virtual meeting of the National Advisory Committee on Institutional Quality and Integrity (NACIQI) and provides information to members of the public regarding the meeting, including requesting to make oral comments. The notice of this meeting is required under section 10(a)(2) of the Federal Advisory Committee Act (FACA) and section 114(d)(1)(B) of the Higher Education Act (HEA) of 1965, as amended.

DATES: The virtual NACIQI meeting will be held on July 27-29, 2021, from 9:00 a.m. to 5:00 p.m. Eastern Standard Time each day.

FOR FURTHER INFORMATION CONTACT: George Alan Smith, Executive Director/Designated Federal Official, NACIQI, U.S. Department of Education, 400 Maryland Avenue SW, Room 2C-159, Washington, DC 20202, telephone: (202) 453-7757, or email: George.Alan.Smith@ed.gov.

SUPPLEMENTARY INFORMATION: NACIQI's Statutory Authority and Function: NACIQI is established under section 114 of the HEA. NACIQI advises the Secretary of Education with respect to:

• The establishment and enforcement of the standards of accrediting agencies or associations under subpart 2, part H, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

You may register for the meeting on your computer with each day's designated entry link, after which you will receive a confirmation email containing personalized dial-in details, access code, and meeting web link. You must register for each day that you plan to attend.

Tuesday, July 27, 2021

You must pre-register at https://ems8.intellor.com?do=register&t=1&p=838951 to receive a join link, dial-in number, access code, and unique Attendee ID for the event.

Wednesday, July 28, 2021

You must pre-register at https://ems8.intellor.com?do=register&t=1&p=838952 to receive a join link, dial-in number, access code, and unique Attendee ID for the event.

Thursday, July 29, 2021

You must pre-register at https://ems8.intellor.com?do=register&t=1&p=838953 to receive a join link, dial-in number, access code, and unique Attendee ID for the event.

Meeting Agenda

Please note that the review of the Accreditation Council for Independent Colleges and School's (ACICS) petition for renewal of recognition has been removed from the July 2021 NACIQI meeting agenda.

Agenda items for the July 27-29, 2021, meeting are listed below.

Application for Renewal of Recognition

1. Accreditation Commission for Acupuncture and Oriental Medicine. Scope of recognition: The accreditation and pre-accreditation (“Candidacy”) throughout the United States of professional non-degree and graduate degree programs, including professional doctoral programs, in the field of acupuncture and/or Oriental medicine, as well as freestanding institutions and colleges of acupuncture and/or Oriental medicine that offer such programs.

2. Accrediting Bureau of Health Education Schools. Scope of recognition: The accreditation of private, postsecondary institutions in the United States offering predominantly allied health education programs leading to a certificate, diploma, and degrees at the level of the Associate of Applied Science, Associate of Occupational Science, Academic Associate, Baccalaureate and Master's; and the programmatic accreditation of medical assisting, medical laboratory technology, and surgical technology programs, through the Associate degree, including those offered via distance education. The scope extends to the Substantive Change Committee, jointly with the Commission, for decisions on substantive change.

3. Commission on Accrediting of the Association of Theological Schools. Scope of recognition: The accreditation of theological schools and seminaries, as well as schools or programs that are parts of colleges or universities, in the United States, offering post baccalaureate degrees in professional and academic theological education, including delivery via distance education.

4. Accrediting Commission of Career Schools and Colleges. Scope of recognition: The accreditation of postsecondary, non-degree-granting institutions and degree-granting institutions in the United States, including those granting associate, baccalaureate and master's degrees, that are predominantly organized to educate students for occupational, trade and technical careers, and including institutions that offer programs via distance education.

5. Council on Occupational Education. Scope of recognition: The accreditation and pre-accreditation (“Candidacy Status”) throughout the United States of postsecondary occupational education institutions offering non-degree and applied associate degree programs in specific career and technical education fields, including institutions that offer programs via distance education.

6. American Bar Association, Council of the Section of Legal Education and Admissions to the Bar. Scope of recognition: The accreditation throughout the United States of programs in legal education that lead to the first professional degree in law, including those offered via distance education, as well as freestanding law schools offering such programs. The scope extends to the Accreditation Committee of the Section of Legal Education (Accreditation Committee) for decisions involving continued accreditation (referred to by the agency as “approval”) of law schools.

7. American Psychological Association, Commission on Accreditation. Scope of recognition: The accreditation in the United States of doctoral programs in clinical, counseling, school and combined professional-scientific psychology; doctoral internship programs in health service psychology; and postdoctoral residency programs in health service psychology; and the pre-accreditation in the United States of doctoral internship programs in health service psychology; and postdoctoral residency programs in health service psychology.

8. American Osteopathic Association, Commission on Osteopathic College Accreditation. Scope of recognition: The accreditation and pre-accreditation (“Provisional Accreditation”) throughout the United States of freestanding institutions of osteopathic medicine and programs leading to the degree of Doctor of Osteopathy or Doctor of Osteopathic Medicine.

9. Transnational Association of Christian Colleges and Schools, Accreditation Commission. Scope of recognition: The accreditation and pre-accreditation (“Candidate” status) of Christian postsecondary institutions in the United States that offer certificates, diplomas, and associate, baccalaureate, and graduate degrees, including institutions that offer distance education.

Administration Policy Update

Dr. Michelle Asha Cooper, Acting Assistant Secretary for the Office of Postsecondary Education, will discuss the Administration's higher education policy priorities.

Accreditor Dashboards

Brian Fu, Program and Management Analyst, Office of Planning, Evaluation, and Policy Development (OPEPD), will provide a training on the use of the accreditor dashboards, with time for questions and discussion among NACIQI members.

NACIQI Policy Discussion

In addition to its review of accrediting agencies and State approval agencies for Secretarial recognition, the meeting agenda will include additional time for Committee discussions regarding any of the categories within NACIQI's statutory authority in its capacity as an advisory committee.

Subcommittee on Student Success

The subcommittee will provide a report on its work that focuses on 34 CFR 602.16(a)(1)(i), accreditation and pre-accreditation standards.

Submission of requests to make an oral comment regarding a specific accrediting agency under review, or to make an oral comment or written statement regarding other issues within the scope of NACIQI's authority: Opportunity to submit a written statement regarding a specific accrediting agency under review was solicited by a previous Federal Register notice published on August 12, 2020 (85 FR 48679; Document Number 2020-17634). The period for submission of such statements is now closed.

Additional written comments regarding a specific agency or state approval agency under review will not be accepted at this time. However, members of the public may submit written statements regarding other issues within the scope of NACIQI's authority for consideration by NACIQI in the manner described below.

Oral comments may not exceed three minutes. Oral comments about an agency's recognition when a compliance report has been required by the senior Department official or the Secretary must relate to the criteria for recognition cited in the senior Department official's letter that requested the report, or in the Secretary's appeal decision, if any. Oral comments about an agency seeking expansion of scope must be directed to the agency's ability to serve as a recognized accrediting agency with respect to the kinds of institutions or programs requested to be added. Oral comments about the renewal of an agency's recognition must relate to its compliance with the Criteria for the Recognition of Accrediting Agencies, which are available at http://www.ed.gov/admins/finaid/accred/index.html. Written statements and oral comments concerning NACIQI's work outside of a specific accrediting agency under review must be limited to the scope of NACIQI's authority as outlined under section 114 of the HEA.

To request to make a third-party oral comment of three minutes or less during the July 27-29, 2021 meeting, please follow either Method One or Method Two below. To submit a written statement to NACIQI concerning its work outside a specific accrediting agency under review, please follow Method One.

Method One: Submit a request by email to the ThirdPartyComments@ed.gov mailbox. Please do not send material directly to NACIQI members. Written statements to NACIQI concerning its work outside a specific accrediting agency under review and requests to make oral comment must be received by July 9, 2021 and include the subject line “Oral Comment Request: (agency name),” “Oral Comment Request: (subject)” or “Written Statement: (subject).” The email must include the name(s), title, organization/affiliation, mailing address, email address, and telephone number, of the person(s) submitting a written statement or requesting to speak. All individuals submitting an advance request in accordance with this notice will be afforded an opportunity to speak.

Method Two (Only available to those seeking to make oral comments): Register on July 27, 2021, from 7:45 a.m.-8:45 a.m. Eastern Standard Time, to make an oral comment during NACIQI's deliberations, using the designated entry link for Tuesday, July 27, 2021 listed earlier in this notice. The requestor must provide the subject on which he or she wishes to comment, in addition to his or her name, title, organization/affiliation, mailing address, email address, and telephone number. A total of up to fifteen minutes for each agenda item will be allotted for oral commenters who register on July 27, 2021 by 8:45 a.m. Eastern Standard Time. Individuals will be selected on a first-come, first-served basis. If selected, each commenter will speak on the actual day and at the actual time the topic for which he or she wishes to comment is being discussed; and his or her comments may not exceed three minutes.

Access to Records of the Meeting: The Department will post the official report of the meeting on the NACIQI website within 90 days after the meeting. In addition, pursuant to the FACA, the public may request to inspect records of the meeting at 400 Maryland Avenue SW, Washington, DC, by emailing aslrecordsmanager@ed.gov or by calling (202) 453-7415 to schedule an appointment. Senior Department official's (as defined in 34 CFR 602.3) decisions pursuant to 34 CFR 602.36 associated with all NACIQI Meetings can be found at the following website: https://surveys.ope.ed.gov/erecognition/PublicDocuments.

Reasonable Accommodations: The meeting dial-in information and weblink are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

(Authority: 20 U.S.C. 1011c.)

Annmarie Weisman,
Deputy Assistant Secretary for Policy, Planning and Innovation, Office of Postsecondary Education.

[FR Doc. 2021-13758 Filed 6-25-21; 8:45 am]

BILLING CODE P